ENVIRONMENTAL PROTECTION AGENCY

[ER--FRL-6671-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 1, 2005 (70 FR 16815).

Draft EISs

EIS No. 20050340, ERP No. D-AFS-J65451-UT, West Fork Blacks Fork Allotment Management Plan, Proposes to Authorize Continued Livestock Grazing, Township 1 North, Range 11 East, Salt Lake Principle Meridan, Evanston Ranger District, Wasatch-Cache National Forest, Summit County, UT

Summary: EPA expressed concerns about adverse impacts from sheep grazing to soils and vegetation. Rating EC2.

EIS No. 20050400, ERP No. D-BLM-K65291-00, Lake Havasu Field Office Resource Management Plan, Implementation, Colorado River, Davis Dam in the north and south to Park Dam, CA and AZ

Summary: EPA does not object to the proposed project. Rating LO.

EIS No. 20050405, ERP No. D-NPS-K39094-NV, Clean Water Coalition Systems Conveyance and Operations Program, Construction, Operation and Maintenance, City of Las Vegas, City County, NV

Summary: EPA expressed concerns about potential impacts to water quality and requested additional information on wastewater discharge permit requirements, details on water and air quality mitigation, criteria for effluent allocation between Las Vegas Wash and Boulder Basin, measures to conserve, reuse, and recycle water, and measures to reduce wastewater production. Rating EC2.

EIS No. 20050424, ERP No. D-NPS-K39095-CA, Furnace Creek Water Collection System, Reconstruction, Death Valley National Park, Implementation, Inyo County, CA

Summary: EPA expressed environmental concerns about the proposed discharge of more than 120,000 gallons per day of reverse osmosis brine into the Furnace Creek Wash alluvium, which could affect surface water and groundwater quality. EPA requested that other disposal alternatives be considered. Rating EC2.

EIS No. 20050436, ERP No. D-NPS-F61022-MI, Isle Royale National Park Wilderness and Backcounty Management Plan, Implementation, MI

Summary: EPA does not object to the proposed project. Rating LO.

EIS No. 20050446, ERP No. D-USN-E11059-00, Undersea Warfare Training Range (USWTR), Installation and Operation, Preferred Site (in the Cherry Point Operating Area) and the Alternate Sites (within the Virginia Capes and Jacksonville Operating Areas), NC, VA and FL

Summary: EPA does not object to the proposed project. Rating LO.

Final EISs

EIS No. 20050391, ERP No. F-AFS-K65284-CA, Creeks Forest Health Recovery Project, To Develop a Network of Defensible Fuel Profile Zones (DFPZs), Group-Selection Timber Harvest, Individual Tree Selection, Lassen National Forest, Almanor Ranger District, Plumas County, CA

Summary: EPA's previous concerns about the potential impacts to water and air quality, environmental justice and tribal consultation have been adequately addressed; therefore, EPA does not object to the proposed action.

EIS No. 20050423, ERP No. F-BLM-K65439-NV, Sloan Canyon National Conservation Area, Resource Management Plan, Implementation, Cities of Las Vegas and Henderson, Clark County, NV

Summary: EPA does not object to the proposed project.

EIS No. 20050479, ERP No. F-SFW-A65171-00, Resident Canada Goose Management Plan, Evaluate Alternatives Strategies to Reduce, Manage, and Resident Canada Goose Population, Implementation, within the Conterminous U.S.

Summary: No formal comment letter was sent to the preparing agency.

EIS No. 20050508, ERP No. F-NPS-F65057-IN, Lincoln Boyhood National Memorial General Management Plan, Implementation, Lincoln City Spencer County, IN

Summary: EPA does not object to the proposed project.

EIS No. 20050522, ERP No. F-NPS-G02014-TX, Big Thicket National Preserve Oil and Gas Management Plan, Implementation, Hardin, Jefferson, Orange, Liberty, Tyler, Jasper and Polk Counties, TX

Summary: No formal comment letter was sent to the preparing agency.

Dated: January 24, 2006.
Ken Mittelholtz,
Environmental Protection Specialist, Office of Federal Activities.

[FR Doc. E6-1042 Filed 1-26-06; 8:45 am]

BILLING CODE 6560-50-P